DEPARTMENT OF ENERGY

Federal Energy Regulatory Commission

[Docket No. EC01-38-000, et al.]

American Ref-fuel Company of Hempstead, et al.; Electric Rate and Corporate Regulation Filings

December 12, 2000.

Take notice that the following filings have been made with the Commission:

1. American Ref-fuel Company of Hempstead, BFI Energy Systems of Hempstead, Inc. Allied Waste Industries, Inc. Duke/UAE Ref-fuel LLC, Duke/UAE Hempstead LLC, Duke/UAE Hempstead II, Inc., United American Energy Corp., Duke Energy Corporation

[Docket No. EC01-38-000]

Take notice that on December 5, 2000, American Ref-fuel Company of Hempstead, BFI Energy Systems of Hempstead, Inc., Allied Waste Industries, Inc., Duke/UAE Ref-Fuel LLC, Duke/UAE Hempstead LLC, Duke/UAE Hempstead II, Inc., United American Energy Corp. and Duke Energy Corporation tendered for filing a request that the Commission approve a disposition of facilities under Section 203 of the Federal Power Act in connection with a change in control over American Ref-Fuel Company of Hempstead and a change in the upstream ownership of United American Energy Corp. ARC-Hempstead leases and operates a biomass-fueled qualifying small power production facility with a capacity greater than 30 MW.

Comment date: December 26, 2000, in accordance with Standard Paragraph E at the end of this notice.

2. Redbud Energy LP

[Docket No. EG01-46-000]

Take notice that on December 11, 2000, Redbud Energy LP (Redbud), a limited partnership with its principal place of business at 909 Fannin, Suite 2222, Houston, Texas 77010, filed with the Federal Energy Regulatory Commission (Commission) an application for determination of exempt wholesale generator status pursuant to Part 365 of the Commission's regulations.

Redbud states that it will be engaged directly and exclusively in the business of owning a 1200 MW natural gas fired, combined cycle electric generating facility and related assets to be located on an approximately 160 acre site located about 25 miles north east of Oklahoma City near the town of Luther, Oklahoma. Redbud will sell its capacity exclusively at wholesale.

Comment date: January 2, 2001, in accordance with Standard Paragraph E at the end of this notice. The Commission will limit its consideration of comments to those that concern the adequacy or accuracy of the application.

3. Potomac Power Resources, Inc.

[Docket No. EG01-47-000]

Take notice that on December 8, 2000, Potomac Power Resources, Inc. (PPR), with its address at 1801 K Street, NW., Washington, DC 20068-0001, filed with the Federal Energy Regulatory Commission (FERC or the Commission) an application for determination of exempt wholesale generator status pursuant to part 365 of the Commission's regulations.

PPR is a Delaware corporation that will be engaged directly and exclusively in the business of owning and operating eligible facilities located in the District of Columbia. The eligible facilities consists of two generation plants. One plant is comprised of two oil-fired cycling units totaling approximately 550 MW and related interconnection facilities. The other plant is comprised of 18 oil-fired combustion turbines, totaling approximately 256 MW and related interconnection facilities. The output of the plants will be sold at wholesale in the United States.

Comment date: January 2, 2001, in accordance with Standard Paragraph E at the end of this notice. The Commission will limit its consideration of comments to those that concern the adequacy or accuracy of the application.

4. California Independent System Operator Corporation

[Docket No. TX01-1-000]

Take notice that on December 8, 2000, the California Independent System Operator Corporation (the ISO) filed, pursuant to Rule 216 of the Commission's Rules of Practice and Procedure, 18 CFR 385.216, a notice of withdrawal of its Application for Transmission Order submitted in the above-referenced docket on December 1, 2000, and for which a Notice of Filing was issued by the Commission on December 6, 2000. The concurrence of San Diego Gas & Electric Company concerning the notice of withdrawal is attached.

The ISO states that this filing has been served upon SDG&E, the Public Utilities Commission of the State of California, and the California Electricity Oversight Board.

Comment date: January 2, 2001, in accordance with Standard Paragraph E at the end of this notice.

5. Cinergy Services, Inc.

[Docket No. ER01-102-001]

Take notice that on December 6, 2000, Cinergy Services Inc., on behalf of Cincinnati Gas & Electric Company and its public utility subsidiaries and PSI Energy Inc. (collectively Cinergy), tendered for filing their compliance filing in the above-captioned docket.

This filing has been served on all parties on the official service list in this proceeding.

Comment date: December 27, 2000, in accordance with Standard Paragraph E at the end of this notice.

6. Duke Energy Oakland, LLC

[Docket No. ER01-270-001]

Take notice that on December 8, 2000, Duke Energy Oakland, LLC tendered for filing an errata containing substitute revised tariff sheets in the above-referenced docket to correct schedules to its Must-Run Schedule.

Comment date: December 29, 2000, in accordance with Standard Paragraph E at the end of this notice.

7. West Georgia Generating Company, L.L.C.

[Docket No. ER97-1686-008]

Take notice that on December 8, 2000, West Georgia Generating Company, L.L.C. (West Georgia), tendered for filing an updated market power analysis in compliance with the Commission's order issued in this Docket on May 29, 1997.

Comment date: December 29, 2000, in accordance with Standard Paragraph E at the end of this notice.

8. Midwest Electric Power, Inc.

[Docket No. ER00-3353-001]

Take notice that on December 6, 2000, Midwest Electric Power, Inc. (MEP) tendered for filing a Power Supply Agreement dated July 19, 2000 between MEP as Seller and Ameren Energy Marketing Company (Marketing Co.), Illinova Generating Company (Illinova), and LG&E Energy Marketing (LGE) as Purchasing Parties (the Agreement). MEP states that the Power Supply Agreement is identical to a Power Supply Agreement previously submitted on August 2, 2000, except that designations conforming to Order No. 614 have been added.

Comment date: December 27, 2000, in accordance with Standard Paragraph E at the end of this notice.

9. Koch Energy Trading, Inc.

[Docket No. ER95-218-022]

Take notice that on December 6, 2000, Koch Energy Trading, Inc. (KET) tendered for filing a notice of change in status, informing the Commission that Entergy Corporation, which intends to form a partnership with KET's parent, has announced an agreement to merge with FPL Group, Inc. KET also filed a revised code of conduct in accordance with the Commission's policies regarding transactions between power marketers and their public utility affiliates.

Comment date: December 27, 2000, in accordance with Standard Paragraph E at the end of this notice.

10. Pacific Gas and Electric Company

[Docket Nos. ER99-4323-000 and ER99-4323-001]

Take notice that on December 7, 2000, Pacific Gas and Electric Company (PG&E), tendered for filing a wholesale transmission refund report in compliance with an Order of the Federal Energy Regulatory Commission, Docket Nos. ER99-4323-000 and ER99-4323-001, dated September 15, 2000.

Copies of this filing have been served upon the California Independent System Operator Corporation, California Independent System Operator-registered Scheduling Coordinators, Southern California Edison Company, Sam Diego Gas and Electric Company, and the California Public Utilities Commission.

Comment date: December 28, 2000, in accordance with Standard Paragraph E at the end of this notice.

11. Commonwealth Edison Company

[Docket No. ER00-3668-001]

Take notice that on December 8, 2000, Commonwealth Edison Company tendered for filing a revised unexecuted Interconnection Agreement with University Park, LLC, and related supporting materials in compliance with the Commission's Order of November 8, 2000 in this docket.

Comment date: December 29, 2000, in accordance with Standard Paragraph E at the end of this notice.

12. LSP Energy Limited Partnership, LSP-Nelson Energy, LLC, LSP-Kendall Energy, LLC

[Docket Nos. ER01-609-000, ER98-2259-001, ER00-2448-001, ER99-2602-001]

Take notice that on December 8, 2000, LSP Energy Limited Partnership, LSP-Nelson Energy, LLC, and LSP-Kendall Energy, LLC (together, the LSP Project Companies), tendered for filing a Notification of Change in Status and Application for Acceptance of Pro Forma Revised FERC electric tariffs and related Codes of Conduct, in which the LSP Project Companies provide notice of their anticipated affiliation with electric utilities having franchised service territories, pursuant to a pending sale to NRG Energy, Inc. and NRG Granite Acquisition, LLC of partnership interests that indirectly own the LSP Project Companies. As a result of this anticipated affiliation with such electric utilities following the closing of the pending sale of applicable partnership interests, the LSP Project Companies are submitting for filing pro forma revised electric tariffs and related Codes of Conduct.

Comment date: December 29, 2000, in accordance with Standard Paragraph E at the end of this notice.

13. Exelon Generation Company, L.L.C.

[Docket No. ER00-3251-002]

Take notice that on December 8, 2000, PECO Energy Company, on behalf of Exelon Generation Company, L.L.C., tendered for filing revised service agreements in accordance with the Commission's order in Exelon Generation Company, L.L.C., et al., 93 FERC ¶ 61,140 (2000).

Comment date: December 29, 2000, in accordance with Standard Paragraph E at the end of this notice.

Standard Paragraphs

E. Any person desiring to be heard or to protest such filing should file a motion to intervene or protest with the Federal Energy Regulatory Commission, 888 First Street, N.E., Washington, D.C. 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/online/rims.htm (call 202-208-2222 for assistance).

David P. Boergers,
Secretary.

[FR Doc. 00-32341 Filed 12-19-00; 8:45 am]

BILLING CODE 6717-01-P